DEPARTMENT OF THE INTERIOR

National Park Service

National Register of Historic Places; Notification of Pending Nominations

Nominations for the following properties being considered for listing in the National Register were received by the National Park Service before October 20, 2001. Pursuant to section 60.13 of 36 CFR part 60 written comments concerning the significance of these properties under the National Register criteria for evaluation may be forwarded to the National Register, National Park Service, 1849 C St. NW., NC400, Washington, DC 20240. Written comments should be submitted by November 28, 2001.

Carol D. Shull,
Keeper of the National Register of Historic Places.

ALABAMA

Autauga County

Mount Sinai School, (The Rosenwald School Building Fund and Associated Buildings MPS), 1820 Cty. Rd. 57, Prattville, 01001296

Bullock County

Sardis Baptist Church, AL 223S at jct. Cty. Rd. 22, Union Springs, 01001299

Calhoun County

Ten Oaks, 805 Pelham Rd. S, Jacksonville, 01001298

Chambers County

New Hope Rosenwald School, (The Rosenwald School Building Fund and Associated Buildings MPS), 2.25 mi SE of US 431 on Cty Rd. 267, Fredonia, 01001297

Cullman County

Crane Hill Masonic Lodge, 14538 Cty. Rd. 222, Crane Hill, 01001294

Dallas County

Hain, H. Bruce, House, 5826 AL 41, Sardis, 01001295

Jefferson County

Stonecroft, 1453 Shades Crest Rd., Birmingham, 01001290

Lauderdale County

Downtown Florence Historic District (Boundary Increase), Roughly bounded by Pine St., Alabama St., Wood Ave., and Tuscaloosa St., Florence, 01001292

Marion County

Midtown Historic District, Roughly bounded by Taylor Ave., US 90, Houston St., Kenneth St., US 98, and Florida St., Mobile, 01001293

St. Clair County

Old Pell City Historic District, Roughly bounded by 16th St. N, 1st Ave. N, 22nd St. N, and 4th Ave. N, Pell City, 01001291

ARIZONA

Navajo County

Pinedale Elementary School, 300 S. Main St., Pinedale, 01001301

Pima County

Ajo Townsite Historic District, blks 1-31, Ajo Townsite, Ajo, 01001300

FLORIDA

Hillsborough County

Glover School, 5104 Horton Rd., Bealsville, Plant City, 01001307

IDAHO

Butte County

Arco Baptist Community Church, 402 W. Grand Ave., Arco, 01001303

Latah County

Hotel Rietmann, 525 and 529 S. Main St., Troy, 01001302

Kenworthy Theatre, (Motion Picture Theater Buildings in Idaho MPS), 508 S. Main St., Moscow, 01001305

Nu Art Theatre, (Motion Picture Theater Buildings in Idaho MPS), 516 S. Main St., Moscow, 01001304

Twin Falls County

Twin Falls Original Townsite Residential Historic District, Roughly bounded by Blue Lakes Ave., Addison Ave., 2nd Ave. E, and 2nd Ave. W, Twin Falls, 01001306

ILLINOIS

Clark County

Harlan Hall, 603 Locust St., Marshall, 01001309

Cumberland County

Ward, Thornton, Estage, 1387 US 40, Toledo, 01001308

Livingston County

Ambler's Texaco Gas Station, (Route 66 through Illinois MPS) Il 17 and Old US 66, Dwight, 01001311

Montgomery County

Route 66, Litchfield to Mount Olive, (Route 66 through Illinois MPS) US 66, N of IL 16 in Litchfield to Mount Olive, Litchfield, 01001312

LOUISIANA

Lafayette Parish

Our Lady of the Assumption School, 410 Michaud St., Carencro, 01001267

St. John The Baptist Parish

Caire, E.J., & Co. Stores, 2403-2407 LA 18, Edgard, 01001268

MAINE

Aroostook County

Reed School, US 1, 0.1 mi. S of jct. with Lycette Rd., North Amity, 01001270

Hancock County

Stone Barn Farm, Jct. of Crooked Rd. and Norway Dr., Salsbury Cove, 01001271

Penobscot County

Patch, Edith Marion, House, 500 College Ave., Old Town, 01001269

Washington County

Moore, Henry D., Parish House and Library, 3 Rogers Point Rd., Steuben, 01001272

MICHIGAN

Ontonagon County

Ontonagon Harbor Piers Historic District, Ontonagon R. at Lake Superior, Ontonagon, 01001313

NEBRASKA

Clay County

Fairfield Carnegie Library, (Carnegie Libraries in Nebraska MPS) 412 N. D St., Fairfield, 01001274

Colfax County

Schuyler Carnegie Library, (Carnegie Libraries in Nebraska MPS) 1003 B St., Schuyler, 01001275

Keith County

Archeological site 25KH67, Address Restricted, Paxton, 01001279

Archeological site 25KH68, Address Restricted, Brule, 01001278

Pierce County

Meridan Highway, 4.5 mi. Cty. Rd. following 552 Ave., 853 Rd. and 551 Ave., Pierce, 01001273

Platte County

Columbus Izaak Walton League Lodge, NE 81, Columbus, 01001277

Sherman County

Archeological site 25SM20, Address Restricted, Loup City, 01001276

NEW YORK

Allegany County

Belmont Hotel, 40-48 Schuyler St., Belmont, 01001319

Oswego County

Ames, Orson, House, (Freedom Trail, Abolitionism, and African American Life in Central New York MPS) 3339 Main St., Mexico, 01001318

Buckhout—Jones Building, (Freedom Trail, Abolitionism, and African American Life in Central New York MPS) 5-13 W. Bridge St., Oswego, 01001322

Clark, Starr, Tin Shop, (Freedom Trail, Abolitionism, and African American Life in Central New York MPS) 3250 Main St., Mexico, 01001323

Edwards, John B. and Lydia, House, (Freedom Trail, Abolitionism, and African American Life in Central New York MPS) 144 E. Third St., Oswego, 01001316

McKenzie, John and Harriet, House, (Freedom Trail, Abolitionism, and African American Life in Central New York MPS) 96 W. Eighth St., Oswego, 01001314

Wing, Asa and Caroline, House, (Freedom Trail, Abolitionism, and African American Life in Central New York MPS) 3392 NY 69, Mexico, 01001317

Richmond County

STANDARD OIL COMPANY NO. 16 (harbor tug), 3001 Richmond Terrace, Staten Island, 01001321

Saratoga County

URGER (canal tugboat), near eastern terminus of the Erie Division of the New York State Barge Canal., Waterford, 01001320

NORTH CAROLINA

Duplin County

Herring, Bryan Whitfield, Farm, NC 1311, 1 mi. E of jct. with NC 1302, Calypso, 01001315

OHIO

Summit County

Limbach Block Historic District, (Canal, Railroad, and Industrial Resources of the Village of Clinton/Warwick, Ohio MPS) 7843,7845,7847,7849,7851, and 7853 Main St., Clinton, 01001280

RHODE ISLAND

Newport County

Osborn—Bennett Historic District, 1137, 1148, 1168 and 1188 Main Rd., Tiverton, 01001324

TENNESSEE

Cocke County

Cureton, Walter C., House, 202 Lincoln Ave., Newport, 01001325

TEXAS

Bexar County

Brooke Army Medial Center, Building 1000, Stanley Rd., Fort Sam Houston, San Antonio, 01001281

UTAH

Salt Lake County

Lewis, Dr. David and Juanita, House, 1403 E. Westminster Ave., Salt Lake City, 01001283

Meek, Benjamin and Olivia, House, 12782 South Fort St., Draper, 01001282

VERMONT

Chittenden County

Mount Philo State Park, (Historic Park Landscapes in National and State Parks MPS) 5425 Mount Philo Rd., Charlotte, 01001286

Essex County

Maidstone State Park, (Historic Park Landscapes in National and State Parks MPS) 4858 and 4876 Maidstone Rd., Maidstone, 01001285

Windsor County

Emerson, Ezekiel, Farm, (Agricultural Resources of Vermont MPS) VT 73, Rochester, 01001284

WASHINGTON

King County

Reard—Freed Farmstead, 1807 212th Ave. SE, Sammamish, 01001289

Spokane County

Fox Theater, 1005 W. Sprague Ave., Spokane, 01001287

Lewis and Clark High School, 521 W. Fourth Ave., Spokane, 01001288

WEST VIRGINIA

Greenbrier County

Oakhurst Links, 1 Montague Dr., White Sulphur Springs, 01001327

Hampshire County

Washington Bottom Farm, WV 28, Springfield, 01001328

Hardy County

Funkhouser, Henry, Farm and Log House, Funkhouser Rd., Cty Rd. 259/9, Baker, 01001326

Kanawha County

Sterrett Brothers' Dry Goods Store, 112 Capitol St., Charleston, 01001329

Marion County

Fleming—Watson Historic District, Approx. bounded by Fairmont Ave., Second, Fay Sts., Apple Ct, Green, Emerson Sts., Coleman Ave., Seventh St., Outlook, Fairmont, 01001330

Wilson School, 917 E. Main St., Mannington, 01001331

Monongalia County

Chancery Hill Historic District (Boundary Increase), 256 Prairie Ave., Morgantown, 01001332

Tucker County

St. George Academy, Cty. Rd. 1, St. George, 01001333

It has been determined necessary to WAIVE the comment period to assist in the preservation of the following historic resource.

A request for a MOVE has been made for the following resource:

INDIANA

St. Joseph County

South Bend Remedy Company Building 501 W. Colfax, South Bend, 01000993

[FR Doc. 01-28305 Filed 11-9-01; 8:45 am]

BILLING CODE 4310-70-P